DEPARTMENT OF JUSTICE

National Institute of Justice

[OJP (NIJ) Docket No. 1824]

Request for Input From the Public on Section 7.1(b) of Executive Order 14110, “Safe, Secure, and Trustworthy Development and Use of Artificial Intelligence”

AGENCY: National Institute of Justice, Office of Justice Programs, U.S. Department of Justice.

ACTION: Notice.

SUMMARY: The National Institute of Justice (NIJ) seeks written input from the public relevant to section 7.1(b) of Executive Order 14110, “Safe, Secure, and Trustworthy Development and Use of Artificial Intelligence.” NIJ is seeking information that could inform a report that addresses the use of artificial intelligence (AI) in the criminal justice system.

DATES: Written input must be received by 5 p.m. eastern time on May 28, 2024.

ADDRESSES:

How to Respond and What to Include: Submissions must include a one-page cover letter that summarizes key points and can include additional written input. The cover letter must contain the contact information of the person submitting comments, including name, address, phone number, and email address. There is no page limit for the additional written input. All submissions must be sent electronically as an email attachment to the contact below. NIJ prefers submissions in common file formats such as PDF or Word. Please indicate “Public Input to Section 7.1(b) of E.O. 14110” in the subject line of the email. Input must be received by the date listed above. Organizational responses may be submitted. If an organizational response is submitted, please indicate a point of contact in the cover letter, including name, address, phone number, and email address.

FOR FURTHER INFORMATION CONTACT: Mark Greene, Office Director, Office of Technology and Standards, National Institute of Justice, 810 7th Street NW, Washington, DC 20531; telephone number: (202) 598-9481; email address: mark.greene2@usdoj.gov.

SUPPLEMENTARY INFORMATION: NIJ plans to review the input provided by the public as it drafts a report responsive to section 7.1(b) of Executive Order 14110. All materials will be shared with U.S. Government staff or U.S. Government contractors for evaluation purposes. NIJ does not plan to publish the input received, however all materials submitted are subject to public release under the Freedom of Information Act. Comments should not include any sensitive personal information or confidential commercial information. If you wish to voluntarily submit confidential commercial information, you must mark that content prominently as “CONFIDENTIAL COMMERCIAL INFORMATION” and NIJ will, to the extent permitted by law, withhold such information from public release.

NIJ publishes this notice pursuant to its authority at 34 U.S.C. 10122(c) and 6 U.S.C. 161-165.

Nancy La Vigne,
Director, National Institute of Justice.

[FR Doc. 2024-08818 Filed 4-24-24; 8:45 am]

BILLING CODE 4410-18-P